DEPARTMENT OF HOMELAND SECURITY

Federal Emergency Management Agency

[Docket No. FEMA-2006-0034]

National Advisory Council

AGENCY: Federal Emergency Management Agency, DHS.

ACTION: Committee Management; Notice of Committee Establishment and Request for Applicants for Membership.

SUMMARY: As provided for in the Department of Homeland Security Appropriations Act of 2007, the Secretary of Homeland Security is establishing the National Advisory Council to ensure effective and ongoing coordination of Federal preparedness, protection, response, recovery, and mitigation for natural disasters, acts of terrorism, and other man-made disasters. Qualified individuals interested in serving on the National Advisory Council are invited to apply for appointment.

DATES: Applications for membership should be received by March 9, 2007. If you want to submit comments on the establishment of the National Advisory Council, comments must be received by April 9, 2007.

ADDRESSES: Applications for appointment to the National Advisory Council must be sent by mail, electronic mail (E-mail), or facsimile to John A. Sharetts-Sullivan, Chief, Records Management and Privacy, FEMA, Attention: HQ/IT-IR-RM, 500 C Street, SW., Washington, DC 20472; john.sharetts-sullivan@dhs.gov; telephone 202-646-2625; fax 202-646-3347.

Comments on the establishment of the National Advisory Council must be identified by docket number FEMA-2006-0034 and may be submitted by one of the following methods:

Federal eRulemaking Portal: http://www.regulations.gov. Follow the instructions for submitting comments.

E-mail: FEMA-RULES@dhs.gov. Include docket number FEMA-2006-0034 in the subject line of the message.

Mail/Hand Delivery/Courier: Rules Docket Clerk, Office of the Chief Counsel, Federal Emergency Management Agency, Room 835, 500 C Street, SW., Washington, DC 20472.

Facsimile: 866-646-4536.

Instructions: All submissions received must include the words “Department of Homeland Security” and the docket number for this action, FEMA-2006-0034. Comments received on the establishment of the National Advisory Council will be posted without alteration on the Web site http://www.regulations.gov including any personal information submitted. Therefore, submitting any information makes the information known to the public. You may want to read the Privacy Act Notice located on the Privacy and Use Notice link on the Administration Navigation Bar of the Web site http://www.regulations.gov. Do not submit applications for appointment to this Web site.

Docket: For access to the docket to read background documents or comments received, go to the Federal eRulemaking Portal at http://www.regulations.gov.

FOR FURTHER INFORMATION CONTACT: John A. Sharetts-Sullivan; email john.sharetts-sullivan@dhs.gov; phone 202-646-2625.

Name of Committee: The National Advisory Council.

Purpose and Objective: The National Advisory Council will advise the Administrator of the Federal Emergency Management Agency (FEMA) on all aspects of emergency management. Any reference to the Administrator of FEMA in this Notice shall be considered to refer and apply to the Director of FEMA until March 31, 2007. The National Advisory Council shall incorporate State, local and tribal government and private sector input in the development and revision of the national preparedness goal, the national preparedness system, the National Incident Management System (NIMS), the National Response Plan, and other related plans and strategies.

Balanced Membership Plans: The members of the National Advisory Council shall be appointed by the Administrator of FEMA, and shall, to the extent practicable, represent a geographic (including urban and rural) and substantive cross section of officials, emergency managers, and emergency response providers from State, local, and tribal governments, private sector, and nongovernmental organizations.

Duration: Pursuant to section 508(d)(2) of the Homeland Security Act of 2002 (Public Law 107-296), as amended by section 611 of the Post-Katrina Emergency Management Reform Act of 2006, as set forth in the Department of Homeland Security Appropriations Act of 2007 (Public Law 109-295), section 14(a)(2) of the Federal Advisory Committee Act (FACA), 5 U.S.C. App. (Public Law 92-463), shall not apply to the National Advisory Council. The National Advisory Council will therefore continue until terminated.

Responsible DHS Official: Until a Designated Federal Official has been appointed, please contact John A. Sharetts-Sullivan, Chief, Records Management and Privacy, FEMA, Attention: HQ/IT-IR-RM, 500 C Street, SW., Washington, DC 20472; john.sharetts-sullivan@dhs.gov; telephone 202-646-2625; fax 202-646-3347.

SUPPLEMENTARY INFORMATION: Section 508 of the Homeland Security Act of 2002 (Public Law 107-296), as amended by section 611 of the Post-Katrina Emergency Management Reform Act of 2006, as set forth in the Department of Homeland Security Appropriations Act of 2007 (Public Law 109-295), directs the Secretary of Homeland Security to establish the National Advisory Council to ensure effective and ongoing coordination of Federal preparedness, protection, response, recovery, and mitigation for natural disasters, acts of terrorism, and other man-made disasters. The National Advisory Council will assist FEMA in carrying out its missions by providing advice and recommendations in the development and revision of the national preparedness goal, the national preparedness system, NIMS, the National Response Plan, and other related plans and strategies.

The National Advisory Council is a statutory advisory committee established in accordance with the provisions of FACA.

The members of the National Advisory Council shall be appointed by the Administrator of FEMA and will be composed of Federal, State, local, tribal, and private-sector leaders and subject matter experts in law enforcement, fire, emergency medical services, hospital, public works, emergency management, State and local governments, public health, emergency response, standards-setting and accrediting organizations, representatives of individuals with disabilities and other special needs, infrastructure protection, cybersecurity, communications, and homeland security communities. Some members will be appointed as Special Government Employees (SGE) as defined in section 202(a) of title 18, United States Code. As a candidate for appointment as a SGE, applicants are required to complete a Confidential Financial Disclosure Report (OGE Form 450). OGE Form 450 or the information contained therein may not be released to the public except under an order issued by a Federal court or as otherwise provided under the Privacy Act (5 U.S.C. 552a). The National Advisory Council may establish subcommittees for any purpose consistent with its charter upon the approval of the Administrator of FEMA.

Of the members initially appointed to the National Advisory Council, the term of office of each member shall be 3 years. Initially, one-third of the members shall be appointed for a term of 1 year, one-third shall be appointed for a term of 2 years; and one-third shall be appointed for the full 3-year term.

The National Advisory Council will meet in a plenary session approximately once per quarter. With respect to quarterly meetings, it is anticipated that the National Advisory Council will hold at least one teleconference meeting with public call-in lines. Members serve without compensation from the Federal Government; however, consistent with the charter, they will receive travel reimbursement and per diem under applicable Federal travel regulations.

In support of the Department of Homeland Security policy on gender and ethnic diversity, qualified women and minorities are encouraged to apply for this membership.

Dated: January 30, 2007.
R. David Paulison,
Under Secretary for Federal Emergency Management and Director of FEMA.

[FR Doc. E7-2030 Filed 2-6-07; 8:45 am]

BILLING CODE 9110-21-P